DEPARTMENT OF ENERGY

Federal Energy Regulatory Commission

[Project No. 12155-001]

Arizona Independent Power, Inc.; Notice of Surrender of Preliminary Permit

July 3, 2003.

Take notice that Arizona Independent Power, Inc., permittee for the proposed Starhills Pumped Storage Project, has requested that its preliminary permit be terminated. The permit was issued on November 20, 2002, and would have expired on October 31, 2005. The project would have been located on the Gila River in Pinal County, Arizona.

The permittee filed the request on May 2, 2003, and the preliminary permit for Project No. 12155 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Linda Mitry,
Acting Secretary.

[FR Doc. 03-17492 Filed 7-9-03; 8:45 am]

BILLING CODE 6717-01-P